DEPARTMENT OF AGRICULTURE

Forest Service

Newspapers for Publication of Legal Notices in the Eastern Region

AGENCY: Forest Service, USDA.

ACTION: Notice.

SUMMARY: Forest Service administrative review procedures at 36 CFR parts 218 and 219 require agency officials to publish legal notices in newspapers of record for certain opportunities to comment and opportunities to file pre-decisional objections. Forest Service officials in the Eastern Region will publish those legal notices in the newspapers listed in the SUPPLEMENTARY INFORMATION section of this notice. The Eastern Region consists of Illinois, Indiana, Ohio, Michigan, Minnesota, Missouri, New Hampshire, Maine, Pennsylvania, Vermont, New York, West Virginia, and Wisconsin. As provided in 36 CFR 218 and 36 CFR 219, the public shall be advised through Federal Register notice, of the newspaper of record to be utilized for publishing legal notice of comment and objection opportunities required by those Parts and their associated procedures. This notice fulfills that requirement for the Eastern Region.

DATES: Use of these newspapers for purposes of publishing legal notice of opportunities to comment on proposals subject under 36 CFR part 218 and 36 CFR part 219, and notices of the opportunity to object under 36 CFR part 218 and 36 CFR part 219 shall begin the first day after the date of this publication.

FOR FURTHER INFORMATION CONTACT: Patricia Rowell; Appeals Assistant, 626 E. Wisconsin Avenue, Milwaukee, WI—414-297-3439

SUPPLEMENTARY INFORMATION: Responsible Officials in the Eastern Region will publish legal notice regarding proposed land management plans as required under 36 CFR 219.16 and legal notice regarding an opportunity to comment on proposed projects as required under 36 CFR 218.24 in the newspapers that are listed in this section by Forest Service administrative unit. Additionally, Responsible Officials in the Eastern Region will publish legal notice of the opportunity to object to a proposed project under 36 CFR part 218 or to object to a land management plan developed, amended, or revised under 36 CFR part 219 in the legal notice section of the following newspapers. Additional notice regarding an opportunity to comment or object under the above mentioned regulations may be provided in other newspapers not listed below at the sole discretion of the Responsible Official. Legal notice published in a newspaper of record of an opportunity to object is in addition to direct notice to those who have requested it and to those who have participated in planning for the project or land management plan proposal.

The timeframe for comment on a proposed action shall be based on the date of publication of the legal notice of the proposed action in the newspaper of record. The timeframe for objection shall be based on the date of publication of the legal notice of the opportunity to object in the newspaper of record. The following newspapers will be used to provide legal notice.

Eastern Region

Regional Forester Decisions

Affecting National Forest System lands in the Eastern Region, in the states of Illinois, Indiana, Ohio, Michigan, Minnesota, Missouri, New Hampshire, Maine, Pennsylvania, Vermont, New York, West Virginia, and Wisconsin, The Milwaukee Journal/Sentinel, published daily in Milwaukee, Milwaukee County, Wisconsin.

Allegheny National Forest, Pennsylvania

Forest Supervisor Decisions

Warren Times Observer, Warren, Warren County, Pennsylvania

District Ranger Decisions

Bradford District: Bradford Era, Bradford, McKean County, Pennsylvania

Marienville District: The Kane Republican, Kane, McKean County, Pennsylvania

Chequamegon/Nicolet National Forest, Wisconsin

Forest Supervisor Decisions

The Northwoods River News, published Tuesdays, Thursdays, and Saturdays Rhinelander, Oneida County, Wisconsin

District Ranger Decisions

Eagle River/Florence District: The Northwoods River News, published Tuesdays, Thursdays, and Saturdays, Rhinelander, Oneida County, Wisconsin

Great Divide District: The Daily Press, published daily in Ashland, Ashland County, Wisconsin

Medford/Park Falls District: The Star News, published weekly in Medford, Taylor County, Wisconsin

Washburn District: The Daily Press, published daily in Ashland, Ashland County, Wisconsin

Lakewood/Laona District: The Northwoods River News, published Tuesdays, Thursdays, and Saturdays, Rhinelander, Oneida County, Wisconsin

Chippewa National Forest, Minnesota

Forest Supervisor Decisions

Bemidji Pioneer, published daily in Bemidji, Beltrami County, Minnesota

District Ranger Decisions

Blackduck District: The American, published weekly in Blackduck, Beltrami County, Minnesota

Deer River District: The Western Itasca Review, published weekly in Deer River, Itasca County, Minnesota

Walker District: The Pilot/Independent, published weekly in Walker, Cass County, Minnesota

Green Mountain National Forest, Vermont

Forest Supervisor Decisions

The Rutland Herald, published daily in Rutland, Rutland County, Vermont

District Ranger Decisions

Manchester, Middlebury and Rochester Districts: The Rutland Herald, published daily in Rutland, Rutland County, Vermont

Finger Lakes National Forest, New York

Forest Supervisor Decisions

The Ithaca Journal, published daily in Ithaca, Tompkins County, New York

District Ranger Decisions

Hector District: The Ithaca Journal, published daily in Ithaca, Tompkins County, New York

Hiawatha National Forest, Michigan

Forest Supervisor Decisions

The Daily Press, published daily in Escanaba, Delta County, Michigan

District Ranger Decisions

Rapid River District: The Daily Press, published daily in Escanaba, Delta County, Michigan

Manistique District: The Daily Press, published daily in Escanaba, Delta County, Michigan

Munising District: The Mining Journal, published daily in Marquette, Marquette County, Michigan

St. Ignace District: The Evening News, published daily in Sault Ste. Marie, Chippewa County, Michigan

Sault Ste. Marie District: The Evening News, published daily in Sault Ste. Marie, Chippewa County, Michigan

Hoosier National Forest, Indiana

Forest Supervisor Decisions

The Hoosier Times, published in Bloomington, Monroe County, and Bedford, Lawrence County, Indiana

District Ranger Decisions

Brownstown District: The Hoosier Times, published in Bloomington, Monroe County, and Bedford, Lawrence County, Indiana

Tell City District: The Perry County News, published in Tell City, Perry County, Indiana

Huron-Manistee National Forest, Michigan

Forest Supervisor Decisions

Cadillac News, published daily in Cadillac, Wexford County, Michigan

District Ranger Decisions

Baldwin-White Cloud Districts: Lake County Star, published weekly in Baldwin, Lake County, Michigan

Cadillac-Manistee Districts: Manistee News Advocate, published daily in Manistee, Manistee County, Michigan

Mio District: Oscoda County Herald, published weekly in Mio, Oscoda County, Michigan

Huron Shores District: Oscoda Press, published weekly in Oscoda, Iosco County, Michigan

Mark Twain National Forest, Missouri

Forest Supervisor Decisions

The Rolla Daily News, published Monday through Saturday in Rolla, Phelps County,

Missouri

District Ranger Decisions

Ava/Cassville/Willow Springs District: Springfield News-Leader, published daily in Springfield, Greene County, Missouri

Cedar Creek District: Fulton Sun, published daily in Fulton, Callaway County, Missouri

Eleven Point District: Prospect News, published weekly (Wednesday) in Doniphan, Ripley County, Missouri

Rolla District: Houston Herald, published weekly (Thursdays) in Houston, Texas County, Missouri

Houston District: Houston Herald, published weekly (Thursdays) in Houston, Texas County, Missouri

Poplar Bluff District: Daily American Republic, published daily in Poplar Bluff, Butler County, Missouri

Potosi District: The Independent-Journal, published weekly (Thursday) in Potosi, Washington County, Missouri

Fredericktown District: The Democrat-News, published weekly (Wednesday) in Fredericktown, Madison County, Missouri

Salem District: The Salem News, published weekly (Tuesday) in Salem, Dent County, Missouri

Midewin Tallgrass Prairie, Illinois

Prairie Supervisor Decisions

The Herald News, published daily in Joliet, Will County, Illinois

Monongahela National Forest, West Virginia

Forest Supervisor Decisions

The Inter-Mountain, published daily in Elkins, Randolph County, West Virginia

District Ranger Decisions

Cheat-Potomac District: The Grant County Press, published weekly in Petersburg, Grant County, West Virginia Gauley District: The Nicholas Chronicle, published weekly in Summersville, Nicholas County, West Virginia

Greenbrier District: The Pocahontas Times, published weekly in Marlinton, Pocahontas County, West Virginia

Marlinton-White Sulphur District: The Pocahontas Times, published weekly Marlinton, Pocahontas County, West Virginia

Ottawa National Forest, Michigan

Forest Supervisor Decisions

The Ironwood Daily Globe, published in Ironwood, Gogebic County, Michigan; except, for those projects located solely within the Iron River District, The Reporter, published in Iron River, Iron County, Michigan

District Ranger Decisions

Bergland, Bessemer, Kenton, Ontonagon and Watersmeet Districts: The Ironwood Daily Globe, published in Ironwood, Gogebic County, Michigan

Iron River District: The Reporter, published in Iron River, Iron County, Michigan

Shawnee National Forest, Illinois

Forest Supervisor Decisions

Southern Illinoisan, published daily in Carbondale, Jackson County, Illinois

District Ranger Decisions

Hidden Springs and Mississippi Bluffs Districts: Southern Illinoisan, published daily in Carbondale, Jackson County, Illinois

Superior National Forest, Minnesota

Forest Supervisor Decisions

Duluth News-Tribune, published daily in Duluth, St. Louis County, Minnesota

District Ranger Decisions

Gunflint District: Cook County News-Herald, published weekly in Grand Marais, Cook County, Minnesota

Kawishiwi District: Ely Echo, published weekly in Ely, St. Louis County, Minnesota

LaCroix District: Mesabi Daily News, published daily in Virginia, St. Louis County, Minnesota

Laurentian District: Mesabi Daily News, published daily in Virginia, St. Louis County, Minnesota

Tofte District: Duluth News-Tribune, published daily in Duluth, St. Louis County, Minnesota

Wayne National Forest, Ohio

Forest Supervisor Decisions

Athens Messenger, published daily in Athens, Athens County, Ohio

District Ranger Decisions

Athens District-Marietta Unit: Athens Messenger, published daily in Athens, Athens County, Ohio

Ironton District: The Ironton Tribune, published daily in Ironton, Lawrence County, Ohio

White Mountain National Forest, New Hampshire and Maine

Forest Supervisor Decisions

The New Hampshire Union Leader, published daily in Manchester, County of Hillsborough, New Hampshire.

District Ranger Decisions

Androscoggin District: The New Hampshire Union Leader, published daily in Manchester, County of Hillsborough, New Hampshire; except, for those projects located solely within the State of Maine, the Lewiston Sun-Journal, published daily in Lewiston, County of Androscoggin,Maine

Pemigewasset District: The New Hampshire Union Leader, published daily in Manchester, County of Hillsborough, New Hampshire

Saco District: The New Hampshire Union Leader, published daily in Manchester, County of Hillsborough, New Hampshire; except, for those projects located solely within the State of Maine, the Lewiston Sun-Journal, published daily in Lewiston, County of Androscoggin, Maine

Dated: August 25, 2014.
Gene Blankenbaker,
Deputy Regional Forester.

[FR Doc. 2014-20623 Filed 8-28-14; 8:45 am]

BILLING CODE 3410-11-P